DEPARTMENT OF DEFENSE

Office of the Secretary

[Transmittal No. 22-09]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-09 with attached Policy Justification and Sensitivity of Technology.

Dated: May 8, 2024.
Aaron T. Siegel,
Alternate OSD Federal Register Liaison Officer, Department of Defense.

Transmittal No. 22-09

Notice of Proposed Issuance of Letter of Offer Pursuant to Section 36(b)(1) of the Arms Export Control Act, as amended

(i) Prospective Purchaser: Government of Spain

(ii) Total Estimated Value:

Major Defense Equipment* | $425 million
Other | $525 million
Total | $950 million

(iii) Description and Quantity or Quantities of Articles or Services under Consideration for Purchase:

Major Defense Equipment (MDE):

Eight (8) MH-60R Multi-Mission Helicopters

Twenty (20) T-700-GE-401C Engines (16 installed, 4 spares)

Thirty-two (32) AGM-114R(N) Hellfire Missiles, All Up Rounds

Two (2) Hellfire II Captive Air Training Missiles (CATM)

One hundred (100) WGU-59/B Advanced Precision Kill Weapon System (APKWS) II Guidance Sections, All Up Rounds

Eight (8) Link 16 Multifunctional Information Distribution Systems Joint Tactical Radio Systems (MIDS JTRS) (8 installed)

Four (4) Airborne Low Frequency Sonars (ALFS) (4 installed on 4 aircraft)

Non-MDE:

Also included are M514 impulse cartridge/cartridge actuated devices; MJ20 cartridge actuated thruster/cartridge actuated devices; WB53 fire extinguisher cartridge/cartridge actuated devices; CCU-136A/A impulse cartridges; M299 Hellfire missile launchers; GAU-21 crew served guns (including pintle and laser pointer); LAU-61 digital rocket launchers; M152 High Explosive warheads for airborne 2.75 rockets; MK66 MOD 4, 2.75-inch rocket motors; rocket motors, 2.75-inch, MK-66-4 inert; WTU-1B inert warheads (HA23); AN/ARC-210 RT-2036 radios with Communications Security (COMSEC); AN/AAR-47 missile warning systems; AN/SSQ-62F sonobuoys; AN/SSQ-53G sonobuoys; AN/SSQ-36B sonobuoys; SRQ-4 Hawklink radio terminals with Hawklink Crypto Control Modules; AN/APX-123 Identification Friend or Foe (IFF) transponders; AN/ALE-47 dispenser, Electronic Countermeasures; Advanced Data Transfer Systems (ADTS); AN/AAS-44C(V) Multi-Spectral Targeting Systems; Identification Friend or Foe Mode 4/5 Cryptographic Applique, KIV-78; Joint Mission Planning Systems (JMPS); Embedded Global Positioning System/Precise Positioning Service (GPS/PPS)/Inertial Navigation Systems (EGI) with Selective Availability/Anti-Spoofing Module (SAASM); Airborne Low Frequency Sonars (ALFS) (aircraft provisions only for 4 aircraft); AN/ARQ-59 Hawklink radio terminals; Training Simulators/Operational Machine Interface Assistants (ATS/OMIA); tactical operational flight trainer; AN/ALQ-210 Electronic Support Measures (ESM) systems; APS-153(V) multi-mode radars; spare engine containers; spare and repair parts; support and test equipment; communications equipment; ferry support; publications and technical documentation; personnel training and training equipment; United States (U.S.) Government and contractor engineering, technical, and logistics support services; obsolescence engineering, integration, and test activities required to ensure readiness for the production of the Spanish MH-60R helicopters; and other related elements of logistics and program support.

(iv) Military Department: Navy (SP-P-SDE)

(v) Prior Related Cases, if any: SP-P-SCY, SP-P-SDB, SP-P-GOJ

(vi) Sales Commission, Fee, etc., Paid, Offered, or Agreed to be Paid: None

(vii) Sensitivity of Technology Contained in the Defense Article or Defense Services Proposed to be Sold: See Attached Annex

(viii) Date Report Delivered to Congress: March 15, 2022

*As defined in Section 47(6) of the Arms Export Control Act.

POLICY JUSTIFICATION

Spain—MH-60R Multi-Mission Helicopters with Support

The Government of Spain has requested to buy eight (8) MH-60R Multi-Mission helicopters; twenty (20) T-700-GE-401C engines (16 installed, 4 spares); thirty-two (32) AGM-114R(N) Hellfire missiles, all up rounds; two (2) Hellfire II Captive Air Training Missiles (CATM); one hundred (100) WGU-59/B Advanced Precision Kill Weapon System (APKWS) II Guidance Sections, all up rounds; eight (8) Link 16 Multifunctional Information Distribution Systems Joint Tactical Radio Systems (MIDS JTRS) (8 installed); and four (4) Airborne Low Frequency Sonars (ALFS) (4 installed on 4 aircraft). Also included are M514 impulse cartridge/cartridge actuated devices; MJ20 cartridge actuated thruster/cartridge actuated devices; WB53 fire extinguisher cartridge/cartridge actuated devices; CCU-136A/A impulse cartridges; M299 Hellfire missile launchers; GAU-21 crew served guns (including pintle and laser pointer); LAU-61 digital rocket launchers; M152 High Explosive warheads for airborne 2.75 rockets; MK66 MOD 4, 2.75-inch rocket motors; rocket motors, 2.75-inch, MK-66-4 inert; WTU-1B inert warheads (HA23); AN/ARC-210 RT-2036 radios with Communications Security (COMSEC); AN/AAR-47 missile warning systems; AN/SSQ-62F sonobuoys; AN/SSQ-53G sonobuoys; AN/SSQ-36B sonobuoys; SRQ-4 Hawklink radio terminals with Hawklink Crypto Control Modules; AN/APX-123 Identification Friend or Foe (IFF) transponders; AN/ALE-47 dispenser, Electronic Countermeasures; Advanced Data Transfer Systems (ADTS); AN/AAS-44C(V) Multi-Spectral Targeting Systems; Identification Friend or Foe Mode 4/5 Cryptographic Applique, KIV-78; Joint Mission Planning Systems (JMPS); Embedded Global Positioning System/Precise Positioning Service (GPS/PPS)/Inertial Navigation Systems (EGI) with Selective Availability/Anti-Spoofing Module (SAASM); Airborne Low Frequency Sonars (ALFS) (aircraft provisions only for 4 aircraft); AN/ARQ-59 Hawklink radio terminals; Training Simulators/Operational Machine Interface Assistants (ATS/OMIA); tactical operational flight trainer; AN/ALQ-210 Electronic Support Measures (ESM) systems; APS-153(V) multi-mode radars; spare engine containers; spare and repair parts; support and test equipment; communications equipment; ferry support; publications and technical documentation; personnel training and training equipment; United States (U.S.) Government and contractor engineering, technical, and logistics support services; obsolescence engineering, integration, and test activities required to ensure readiness for the production of the Spanish MH-60R helicopters; and other related elements of logistics and program support. The total estimated program cost is $950 million.

This proposed sale will support the foreign policy and national security objectives of the United States by improving the security of a NATO ally which is an important force for political stability and economic progress in Europe.

The proposed sale will improve Spain's capability to meet current and future threats. The MH-60R Multi-Mission Helicopter will provide the capability to perform anti-surface and anti-submarine warfare missions along with the ability to perform secondary missions including vertical replenishment, search and rescue, and communications relay and will bolster the Spanish Navy's ability to support NATO and remain interoperable with the U.S. and the NATO alliance. Spain will have no difficulty absorbing these helicopters into its armed forces.

The proposed sale of this equipment and support will not alter the basic military balance in the region.

The principal contractor will be Lockheed Martin Rotary and Mission Systems, Owego, NY. There are no known offset agreements proposed in connection with this potential sale.

Implementation of this proposed sale may require the assignment of two (2) contractor representatives to Spain.

There will be no adverse impact on U.S. defense readiness as a result of this proposed sale.

Transmittal No. 22-09

Notice of Proposed Issuance of Letter of Offer Pursuant to Section 36(b)(1) of the Arms Export Control Act

Annex

Item No. vii

(vii) Sensitivity of Technology:

1. The MH-60R Multi-Mission Helicopter focuses primarily on anti-submarine and anti-surface warfare missions. The MH-60R carries several sensors and data links to enhance its ability to work in a network centric battle group and as an extension of its home ship/main operating base. The mission equipment subsystem consists of the following sensors and subsystems: an acoustics systems consisting of a dipping sonar and sonobuoys, Multi-Mode Radar (MMR) with integral Identification Friend or Foe (IFF) interrogator, Radios with COMSEC, Electronic Support Measures (ESM), Integrated Self-Defense (ISD), and Multi-Spectral Targeting System (MTS). The aircraft processes sensor data onboard, and transmits data via Common Data Link (CDL) (also referred to as Hawklink). The aircraft is night vision compatible. It can carry AGM-114A/B/K/N Hellfire missiles to engage surface and sub-surface targets.

a. The AGM-114 Hellfire missile is an air-to-surface missile with a multimission, multi-target, precision strike capability. The Hellfire can be launched from multiple air platforms and is the primary precision weapon for the United States Army.

b. Advanced Precision Kill Weapon System (APKWS) laser guided rocket to counter the fast attack craft and fast inshore attack craft threat.

c. Communications security (COMSEC) devices contain sensitive encryption algorithms and keying material.

d. Identification Friend or Foe (IFF) (KIV-78) contains embedded security devices containing sensitive encryption algorithms and keying material.

e. GPS/PPS/SAASM—Global Positioning System (GPS) provides a space-based Global Navigation Satellite System (GNSS) that has reliable location and time information in all weather and at all times and anywhere on or near the earth when and where there is an unobstructed line of sight to four or more GPS satellites. Selective Availability/Anti-Spoofing Module (SAASM) (AN/PSN-11) is used by military GPS receivers to allow decryption of precision GPS coordinates. In addition, the GPS Antenna System (GAS-1) provides protection from enemy manipulation of the GPS system.

f. Acoustics algorithms are used to process dipping sonar and sonobuoy data for target tracking and for the Acoustics Mission Planner (AMP), which is a tactical aid employed to optimize the deployment of sonobuoys and the dipping sonar.

g. The AN/APS-153 multi-mode radar with an integrated IFF and Inverse Synthetic Aperture (ISAR) provides target surveillance/detection capability.

h. The AN/ALQ-210 (ESM) system identifies the location of an emitter.

i. The AN/AAS-44C(V) Multi-Spectral Targeting System (MTS) operates in day/night and adverse weather conditions. Imagery is provided by a Forward Looking Infrared (FLIR) sensor, a color/monochrome day television (DTV) camera, and a Low-Light TV (LLTV).

j. Ultra High Frequency/Very High Frequency (UHF/VHF) Radios (ARC-210) contain embedded sensitive encryption algorithms and keying material.

k. Advanced Data Transfer System (ADTS) with Type 1 encryption for data at rest.

l. Satellite Communications Demand Assigned Multiple Access (SATCOM DAMA), which provides increased, interoperable communications capabilities with U.S. forces.

2. The highest level of classification of defense articles, components, and services included in this potential sale is SECRET.

3. If a technologically advanced adversary were to obtain knowledge of the hardware and software elements, the information could be used to develop countermeasures or equivalent systems, which might reduce system effectiveness or be used in the development of a system with similar or advanced capabilities.

4. A determination has been made that Spain can provide substantially the same degree of protection for the sensitive technology being released as the U.S. Government. This sale is necessary in furtherance of the U.S. foreign policy and national security objectives outlined in the Policy Justification.

5. All defense articles and services listed in this transmittal have been authorized for release and export to the Government of Spain.

[FR Doc. 2024-10386 Filed 5-10-24; 8:45 am]

BILLING CODE 6001-FR-P